DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 25, 2017.
Roy E. Wright,
Deputy Associate Administrator for Insurance and Mitigation, Department of Homeland Security, Federal Emergency Management Agency.

State and county | Location and case No. | Chief executive officer of community | Community map repository | Date of modification | Community No.
Colorado:
Arapahoe, (FEMA Docket No.: B-1725). | City of Aurora (16-08-0957P). | The Honorable Steve Hogan, Mayor, City of Aurora, 15151 East Alameda Parkway, Aurora, CO 80012 | Public Works Department, Engineering Division, 15151 East Alameda Parkway, Aurora, CO 80012 | Aug. 11, 2017 | 080002
Denver, (FEMA Docket No.: B-1721). | City and County of Denver (17-08-0150P). | The Honorable Michael Hancock, Mayor, City and County of Denver, 1437 Bannock Street, Room 350, Denver, CO 80202 | Department of Public Works, 201 West Colfax Avenue, Denver, CO 80202 | Aug. 11, 2017 | 080046
Weld, (FEMA Docket No.: B-1725). | Town of Severance (17-08-0609X). | The Honorable Don Brookshire, Mayor, Town of Severance, P.O. Box 339, Severance, CO 80546 | Town Hall, 3 South Timber Ridge Parkway, Severance, CO 80546 | Aug. 11, 2017 | 080317
Florida:
Duval, (FEMA Docket No.: B-1721). | City of Jacksonville (17-04-0145P). | The Honorable Lenny Curry, Mayor, City of Jacksonville, 117 West Duval Street, Suite 400, Jacksonville, FL 32202 | Development Services Department, 214 North Hogan Street, Suite 2100, Jacksonville, FL 32202 | Jul. 19, 2017 | 120077
Lee, (FEMA Docket No.: B-1721). | City of Bonita Springs (17-04-0901P). | The Honorable Peter Simmons, Mayor, City of Bonita Springs, 9101 Bonita Beach Road, Bonita Springs, FL 34135 | Community Development Department, 9220 Bonita Beach Road, Bonita Springs, FL 34135 | Aug. 9, 2017 | 120680
Lee, (FEMA Docket No.: B-1721). | City of Bonita Springs (17-04-2066P). | The Honorable Peter Simmons, Mayor, City of Bonita Springs, 9101 Bonita Beach Road, Bonita Springs, FL 34135 | Community Development Department, 9220 Bonita Beach Road, Bonita Springs, FL 34135 | Aug. 11, 2017 | 120680
Lee, (FEMA Docket No.: B-1721). | City of Sanibel (17-04-0705P). | The Honorable Kevin Ruane, Mayor, City of Sanibel, 800 Dunlop Road, Sanibel, FL 33957 | Planning and Code Enforcement Department, 800 Dunlop Road, Sanibel, FL 33957 | Aug. 11. 2017 | 120402
Monroe, (FEMA Docket No.: B-1721). | Unincorporated areas of Monroe County (17-04-0652P). | The Honorable George Neugent, Mayor, Monroe County Board of Commissioners, 25 Ships Way, Big Pine Key, FL 33043 | Monroe County Building Department, 2798 Overseas Highway, Marathon, FL 33050 | Aug. 4. 2017 | 125129
St. Johns, (FEMA Docket No.: B-1721). | Unincorporated areas of St. Johns County (17-04-0145P). | The Honorable James K. Johns, Chairman, St. Johns County Board of Commissioners, 500 San Sebastian View, St. Augustine, FL 32084 | St. Johns County Building Services Division, 4040 Lewis Speedway, St. Augustine, FL 32084 | Jul. 19, 2017 | 125147
Sarasota, (FEMA Docket No.: B-1727). | Unincorporated areas of Sarasota County (17-04-0651P). | The Honorable Paul Caragiulo, Chairman, Sarasota County Board of Commissioners, 1660 Ringling Boulevard, Sarasota, FL 34236 | Sarasota County Development Services Department, 1001 Sarasota Center Boulevard, Sarasota, FL 34236 | Aug. 11, 2017 | 125144
Massachusetts:
Essex, (FEMA Docket No.: B-1725). | City of Gloucester (17-01-0572X). | The Honorable Sefatia Romeo Theken, Mayor, City of Gloucester, 9 Dale Avenue, Gloucester, MA 01930 | City Hall, 9 Dale Avenue, Gloucester, MA 01930 | Jul. 25. 2017 | 250082
Essex, (FEMA Docket No.: B-1725). | City of Salem (17-01-0158P). | The Honorable Kimberley Driscoll, Mayor, City of Salem, 93 Washington Street, Salem, MA 01970 | Department of Planning and Community Development, 93 Washington Street, Salem, MA 01970 | Jul. 25. 2017 | 250102
Essex, (FEMA Docket No.: B-1725). | Town of Manchester-by-the-Sea (17-01-0572X). | The Honorable Eli G. Boling, Chairman, Town of Manchester-by-the-Sea, Board of Selectmen, 10 Central Street, Manchester-by-the-Sea, MA 01944 | Town Hall, 10 Central Street, Manchester-by-the-Sea, MA 01944 | Jul. 25. 2017 | 250090
North Carolina: Onslow, (FEMA Docket No.: B-1725). | Town of North Topsail Beach (17-04-0912P). | The Honorable Fred J. Burns, Mayor, Town of North Topsail Beach, 2008 Loggerhead Court, North Topsail Beach, NC 28460 | Planning Department, 2008 Loggerhead Court, North Topsail Beach, NC 28460 | Jul. 21. 2017 | 370466
Oklahoma:
Oklahoma, (FEMA Docket No.: B-1721). | City of Edmond (16-06-3164P). | The Honorable Charles Lamb, Mayor, City of Edmond, P.O. Box 2970, Edmond, OK 73083 | Engineering Department, 10 South Littler Avenue, Edmond, OK 73084 | Aug. 7. 2017 | 400252
Tulsa, (FEMA Docket No.: B-1721). | City of Bixby (16-06-2420P). | The Honorable John Easton, Mayor, City of Bixby, P.O. Box 70, Bixby, OK 74008 | City Hall, 116 West Needles Avenue, Bixby, OK 74008 | Aug. 14. 2017 | 400207
South Carolina: Clarendon, (FEMA Docket No.: B-1721). | Unincorporated areas of Clarendon County (16-04-7377P). | The Honorable Dwight L. Stewart, Chairman, Clarendon County Council, 411 Sunset Drive, Manning, SC 29102 | Clarendon County Planning Commission, 411 Sunset Drive, Manning, SC 29102 | Jul. 14, 2017 | 450051
South Dakota: Lincoln, (FEMA Docket No.: B-1725). | Unincorporated areas of Lincoln County (16-08-0908P). | The Honorable Dan King, Chairman, Lincoln County Board of Commissioners, 104 North Main Street, Suite 110, Canton, SD 57013 | Lincoln County Commission, 104 North Main Street, Suite 240, Canton, SD 57013 | Aug. 11. 2017 | 460277
Texas:
Bexar, (FEMA Docket No.: B-1721). | City of San Antonio (17-06-0117P). | The Honorable Ivy R. Taylor, Mayor, City of San Antonio, P.O. Box 839966, San Antonio, TX 78283 | Transportation and Capital Improvements Department, Stormwater Division, 1901 South Alamo Street, 2nd Floor, San Antonio, TX 78204 | Aug. 10, 2017 | 480045
Bexar, (FEMA Docket No.: B-1721). | Unincorporated areas of Bexar County (17-06-0117P). | The Honorable Nelson W. Wolff, Bexar County Judge, 101 West Nueva Street, 10th Floor, San Antonio, TX 78205 | Bexar County Public Works Department, 233 North Pecos-La Trinidad Street, Suite 420, San Antonio, TX 78207 | Aug. 10, 2017 | 480035
Dallas, (FEMA Docket No.: B-1721). | City of Rowlett (16-06-3341P). | The Honorable Todd W. Gottel, Mayor, City of Rowlett, 4000 Main Street, Rowlett, TX 75088 | City Hall, 4000 Main Street, Rowlett, TX 75088 | Aug. 11, 2017 | 480185
Ellis, (FEMA Docket No.: B-1721). | City of Waxahachie (17-06-0456P). | The Honorable Kevin Strength, Mayor, City of Waxahachie, 401 South Rogers Street, Waxahachie, TX 75165 | Municipal Court, 101 West Main Street, Waxahachie, TX 75165 | Aug. 9, 2017 | 480211
Goliad, (FEMA Docket No.: B-1725). | Unincorporated areas of Goliad County (16-06-4108P). | The Honorable P.T. Calhoun, Goliad County Judge, P.O. Box 677, Goliad, TX 77963 | Goliad County Court House, 127 North Courthouse Square, Goliad, TX 77963 | Aug. 11. 2017 | 480827
Harris, (FEMA Docket No.: B-1725). | Unincorporated areas of Harris County (17-06-0430X). | The Honorable Edward M. Emmett, Harris County Judge, 1001 Preston Street, Houston, TX 77002 | Harris County Permit Office, 10555 Northwest Freeway, Houston, TX 77092 | Aug. 14. 2017 | 480287
Rockwall, (FEMA Docket No.: B-1721). | City of Rockwall (17-06-0142P). | The Honorable Jim Pruitt, Mayor, City of Rockwall, 385 South Goliad Street, Rockwall, TX 75087 | City Hall, 385 South Goliad Street, Rockwall, TX 75087 | Aug. 14, 2017 | 480547
Utah:
Kane, (FEMA Docket, No.: B-1721). | City of Kanab (16-08-1149P). | The Honorable Robert D. Houston, Mayor, City of Kanab, 26 North 100 East, Kanab, UT 84741 | City Hall, 26 North 100 East, Kanab, UT 84741 | Aug. 11, 2017 | 490085
Kane, (FEMA Docket No.: B-1721). | Unincorporated areas of Kane County (16-08-1149P). | The Honorable Dirk Clayson, Chairman, Kane County Board of Commissioners, 76 North Main Street, Kanab, UT 84741 | Kane County Recorders Office, 76 North Main Street, Kanab, UT 84741 | Aug. 11, 2017 | 490083
Virginia:
Spotsylvania, (FEMA Docket No.: B-1725). | Unincorporated areas of Spotsylvania County (17-03-0692P). | Mr. Mark B. Taylor, Spotsylvania County Administrator, P.O. Box 99, Spotsylvania, VA 22553 | Spotsylvania County Zoning Department, 9019 Old Battlefield Boulevard, Suite 300, Spotsylvania, VA 22553 | Aug. 14. 2017 | 510308
Stafford, (FEMA Docket No.: B-1725). | Unincorporated areas of Stafford County (16-03-1916P). | Mr. Thomas C. Foley, Stafford County Administrator, P.O. Box 339, Stafford, VA 22555 | Stafford County Planning and Zoning Department, 1300 Courthouse Road, Stafford, VA 22554 | Aug. 3. 2017 | 510154

[FR Doc. 2017-20193 Filed 9-20-17; 8:45 am]

BILLING CODE 9110-12-P